ENVIRONMENTAL PROTECTION AGENCY

[FRL-6859-9]

Intent To Grant an Exclusive Patent License

AGENCY: Environmental Protection Agency (EPA).

ACTION: Notice of intent to grant an exclusive patent license.

SUMMARY: Pursuant to 35 U.S.C. 207 and 37 CFR part 404, EPA hereby gives notice of its intent to grant an exclusive, royalty-bearing revocable license to practice the invention described and claimed in the patent application listed below, all corresponding patents issuing therefrom throughout the world, and all reexamined patents and reissued patents granted in connection with such patent application by Leo A.G. Breton, Bethesda, Maryland. The patent application is:

U.S. Patent Application No. 09/226,920, entitled “Real-Time On-Road Vehicle Exhaust Gas Modular Flowmeter and Emissions Reporting System,” filed January 5, 1999.

The invention was announced as being available for licensing in the March 1, 1999 issue of the Federal Register (60 FR 20490). The proposed exclusive license will contain appropriate terms, limitations and conditions to be negotiated in accordance with 35 U.S.C. 209 and the U.S. Government patent licensing regulations at 37 CFR part 404.

EPA will negotiate the final terms and conditions and grant the exclusive license, unless within 60 days from the date of this Notice, EPA receives, at the address below, written objections to the grant, together with supporting documentation. The documentation from objecting parties having an interest in practicing the above patent application should include an application for exclusive or nonexclusive license with the information set forth in 37 CFR 404.8. The EPA Patent Counsel and other EPA officials will review all written responses and then make recommendations on a final decision to the Director and Deputy Director, Office of Transportation Air Quality, both of whom have been delegated the authority to issue patent licenses under 35 U.S.C. 207.

DATES: Comments to this notice must be received by EPA at the address listed below by October 30, 2000.

FOR FURTHER INFORMATION CONTACT: Alan Ehrlich, Patent Counsel, Office of General Counsel (Mail Code 2377A), U.S. Environmental Protection Agency, Washington, D.C. 20460, telephone (202) 564-5457.

Dated: August 18, 2000.
Howard F. Corcoran,
Acting Associate General Counsel.

[FR Doc. 00-22050 Filed 8-28-00; 8:45 am]

BILLING CODE 6560-50-P